NUCLEAR REGULATORY COMMISSION

[Docket Nos. 50-282-LR and 50-306-LR; ASLBP No. 08-871-01-LR]

Atomic Safety and Licensing Board; Northern States Power Co. (Formerly Nuclear Management Company, LLC.) (Prairie Island Nuclear Generating Plant, Units 1 and 2); Notice and Order (Scheduling Oral Argument)

October 16, 2008.

Before Administrative Judges: William J. Froehlich, Chairman; Dr. Gary S. Arnold; Dr. Thomas J. Hirons

Oral argument will be heard on standing and contention admissibility issues presented in the hearing request received on August 18, 2008, from the Prairie Island Indian Community (Petitioner).¹ This proceeding arises from an application filed on April 11, 2008, by Nuclear Management Company, LLC (NMC) ² for renewal of Facility Operating License Nos. DPR-42 and DPR-60 for an additional 20 years of operation at the Prairie Island Nuclear Generating Plant, Units 1 and 2 (PINGP).³ PINGP is located near the City of Red Wing, Minnesota, on the west bank of the Mississippi River.

¹ In response to a June 17, 2008, notice of opportunity for hearing published in the Federal Register (73 FR 34335), Petitioner timely filed a request for hearing and a petition to intervene in accordance with 10 CFR 2.309.

² The NRC has approved the transfer of operating authority over Prairie Island Nuclear Generating Station, Units 1 and 2, from Nuclear Management Company, LLC (NMC) to Northern States Power Company (Northern States). See Order Approving Transfer of License and Conforming Amendment (September 15, 2008), at 3 (ADAMS Accession No. ML082521182).

³ The operating licenses for PINGP, Units 1 and 2, expire on August 9, 2013, and October 29, 2014, respectively. The April 11, 2008, application for renewal was supplemented by a letter dated May 16, 2008.

The participants are advised of the following information regarding the scheduling of the oral argument:

Date: Wednesday, October 29, 2008.

Time: 9 a.m. Central Time (CT).

Location: Dakota County Judicial Center—Courtroom 2E, 1560 Highway 55, Hastings, MN 55033.

The format of oral argument, including the allocation of time to the various participants, will be determined at the outset of the session. Generally, the Board asks that the Parties refrain from simply rehashing the content of their pleadings. Rather, the Board wishes to further explore with the Parties the positions they took in their written submissions. The oral argument will serve principally to assist the Board in the discharge of its decisional responsibilities regarding the admissibility of the Petitioner's proffered contentions. At the same time, however, it should provide counsel with a valuable opportunity to clarify for the Board those issues to be addressed.

The Board has identified 12 specific issues it wishes the Parties to address at oral argument. Counsel should arrive fully prepared to discuss each topic that is a matter of concern to his or her client(s). While the following list does not purport to include all issues that may arise, it should help to guide the Parties in their preparation.

(1) Does the NRC Staff still challenge Mr. Mahowald's representation, in light of the Petitioner's September 19, 2008, Reply at footnote 1 and Mahowald Declaration II?

(2) As to Contention 1, what does the Petitioner allege to be lacking from Applicant's Environmental Report (ER)? Provide citations to any cases, regulations, or statutes which spell out the requirements.

(3) As to Contention 2, Applicant, Petitioner, and Staff should be prepared to argue whether and to what extent the MACCS2 code is applicable to the severe accident mitigation analysis (SAMA) or the license extension. Applicant should be prepared to address “user inputs” to the code. The Board wishes to explore the extent to which the calculation that converts level of contamination to decontamination cost is controlled by user input.

(4) As to Contention 3, Applicant, Petitioner, and Staff should be prepared to discuss the level of detail with which Applicant must analyze impacts on endangered species in the ER. Parties should provide legal support for their positions.

(5) As to Contention 4, Applicant, Petitioner, and Staff should be prepared to address whether any “special circumstances” exist that would make the NRC's category 1 finding inapplicable. Petitioner should discuss the necessity to request a waiver in this case.

(6) As to Contention 5, Applicant should be prepared to discuss the demographics analysis in the ER and whether the Indian Community was specifically included. All Parties should be prepared to identify any requirements for addressing environmental justice in the ER that Applicant has not met.

(7) As to Contention 6, Applicant, Petitioner, and Staff should be prepared to address whether or not the “coatings issues” are addressed as part of the Current Licensing Basis (CLB). Petitioner should be prepared to address any plant specific data relied upon to support this contention.

(8) As to Contention 7, Applicant should be prepared to explain how the surveillance capsules are used. Applicant should also be prepared to address the current vessel surveillance plan and the proposed enhancements. If the proposed changes are significant, when would interested parties have a chance to review them? Petitioner's contention alleges that vessel internals are subject to embrittlement, that embrittlement could cause internals to fail during a loss-of-coolant accident, and that such a failure could lead to an uncoolable core geometry. Petitioner should be able to articulate the facts or expert opinion within the original contention supporting each one of these links.

(9) As to Contention 8, Petitioner should be prepared to address whether the “stress corrosion cracking” issue is addressed as part of the CLB. All Parties should be prepared to address the generic question: If an issue is subject to an Aging Management Plan (AMP) during the current license period, is it required to be addressed by an AMP as a part of relicensing?

(10) As to Contention 9, Petitioner should be prepared to identify what piping system(s) it is referring to and what safety-related function(s) those systems play. The Applicant should be prepared to explain the extent to which the Prairie Island facility has buried piping, what types of systems utilize these buried pipes, and which pipes, if any, are within the scope of license renewal.

(11) As to Contention 10, Petitioner will be asked if it has withdrawn this contention based on the statements in its Reply of September 19 at page 24.

(12) The oral argument will conclude with summary statements by the Parties on the pending motion to strike filed by Applicant on September 29, 2008, the NRC Staff's Response of October 9, 2008, and the Petitioner's Answer filed on October 10, 2008.

As an informational matter, the participants are advised that current planning calls for the proceeding to be made available for live viewing via the following Internet Web streaming feed: Prairie Island Oral Argument.

Please be advised that this Web stream will be available for viewing for 90 days after or until Tuesday, January 27, 2009.

It is so ordered.

For the Atomic Safety and Licensing Board.
Rockville, Maryland, October 16, 2008.
William J. Froehlich,
Chairman, Administrative Judge.

[FR Doc. E8-25148 Filed 10-21-08; 8:45 am]

BILLING CODE 7590-01-P